DEPARTMENT OF HEALTH AND HUMAN SERVICES

National Institutes of Health

Center for Scientific Review; Amended Notice of Meeting

Notice is hereby given of a change in the meeting of the Chemo/Dietary Prevention Study Section, October 10, 2013, 08:00 a.m. to October 10, 2013, 07:00 p.m., Holiday Inn San Francisco Fisherman's Wharf, 1300 Columbus Avenue, San Francisco, CA 94133 which was published in the Federal Register on September 12, 2013, 78 FR Pg. 56239.

The meeting will be held at Sheraton Silver Spring Hotel, 8777 Georgia Ave., Silver Spring, MD 20910. The meeting will start on December 9, 2013 at 8:00 a.m. and end on December 9, 2013 at 7:00 p.m. The meeting is closed to the public.

Dated: October 24, 2013.
Carolyn A. Baum,
Program Analyst, Office of Federal Advisory Committee Policy.

[FR Doc. 2013-25559 Filed 10-28-13; 8:45 am]

BILLING CODE 4140-01-P